DEPARTMENT OF ENERGY

Federal Energy Regulatory Commission

Combined Notice of Filings

Take notice that the Commission has received the following Natural Gas Pipeline Rate and Refund Report filings:

Docket Numbers: RP20-681-001.

Applicants: Cheyenne Connector, LLC.

Description: Compliance filing CC Cheyenne Connector (CP18-102-001) Amendment Compliance to be effective 5/25/2020.

Filed Date: 4/24/20.

Accession Number: 20200424-5129.

Comments Due: 5 p.m. ET 5/6/20.

Docket Numbers: RP20-682-001.

Applicants: Rockies Express Pipeline LLC.

Description: Compliance filing REX Cheyenne Hub Enhancement (CP18-103-001) Amendment Compliance to be effective 5/25/2020.

Filed Date: 4/24/20.

Accession Number: 20200424-5133.

Comments Due: 5 p.m. ET 5/6/20.

Docket Numbers: RP20-801-000.

Applicants: Natural Gas Pipeline Company of America.

Description: § 4(d) Rate Filing: Negotiated Rate Agreement Filing-Macquarie Energy LLC to be effective 5/1/2020.

Filed Date: 4/24/20.

Accession Number: 20200424-5003.

Comments Due: 5 p.m. ET 5/6/20.

Docket Numbers: RP20-802-000.

Applicants: Alliance Pipeline L.P.

Description: Operational Purchases and Sales Report of Alliance Pipeline L.P. under RP20-802.

Filed Date: 4/24/20.

Accession Number: 20200424-5149.

Comments Due: 5 p.m. ET 5/6/20.

Docket Numbers: RP20-803-000.

Applicants: Fayetteville Express Pipeline LLC.

Description: § 4(d) Rate Filing: Fuel Filing on 4-24-20 to be effective 6/1/2020.

Filed Date: 4/24/20.

Accession Number: 20200424-5156.

Comments Due: 5 p.m. ET 5/6/20.

Docket Numbers: RP20-804-000.

Applicants: ETC Tiger Pipeline, LLC.

Description: § 4(d) Rate Filing: Fuel Filing on 4-24-20 to be effective 6/1/2020.

Filed Date: 4/24/20.

Accession Number: 20200424-5161.

Comments Due: 5 p.m. ET 5/6/20.

Docket Numbers: RP20-805-000.

Applicants: ANR Storage Company.

Description: Compliance filing 2020 Operational and Purchases Sales Report.

Filed Date: 4/27/20.

Accession Number: 20200427-5036.

Comments Due: 5 p.m. ET 5/11/20.

Docket Numbers: RP20-806-000.

Applicants: Great Lakes Gas Transmission Limited Partnership.

Description: Compliance filing 2020 Operational Purchases and Sales Report.

Filed Date: 4/27/20.

Accession Number: 20200427-5037.

Comments Due: 5 p.m. ET 5/11/20.

Docket Numbers: RP20-807-000.

Applicants: Blue Lake Gas Storage Company.

Description: Compliance filing 2020 Operational Purchases and Sales Report.

Filed Date: 4/27/20.

Accession Number: 20200427-5047.

Comments Due: 5 p.m. ET 5/11/20.

Docket Numbers: RP20-808-000.

Applicants: Texas Eastern Transmission, LP.

Description: § 4(d) Rate Filing: Negotiated Rates—NJR Energy 910531 & 911426 eff 5-1-2020 to be effective 5/1/2020.

Filed Date: 4/27/20.

Accession Number: 20200427-5112.

Comments Due: 5 p.m. ET 5/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2020.
Nathaniel J. Davis, Sr.,
Deputy Secretary.

[FR Doc. 2020-09442 Filed 5-1-20; 8:45 am]

BILLING CODE 6717-01-P